DEPARTMENT OF ENERGY

Federal Energy Regulatory Commission

[Docket No. ER03-580-003, et al.]

Midwest Independent Transmission System Operator, Inc., et al.; Electric Rate and Corporate Filings

September 30, 2003.

The following filings have been made with the Commission. The filings are listed in ascending order within each docket classification.

1. Midwest Independent Transmission System Operator, Inc.

[Docket Nos. ER03-580-003 EL03-119-003]

Take notice that on September 26, 2003, the GridAmerica Companies and the Midwest Independent Transmission System Operator, Inc. (Midwest ISO) (Applicants) submitted proposed revisions to the Midwest ISO Open Access Transmission Tariff, FERC Electric Tariff, Second Revised Volume No. 1. Applicants state that these revisions supplement the Compliance Filing made by the Applicants on May 30, 2003 in Docket Nos. ER03-580-001 and EL03-119-001.

The Midwest ISO has requested an effective date upon commencement of service over the GridAmerica transmission facilities under the Midwest ISO OATT.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region. In addition, the filing has been electronically posted on the Midwest ISO's Web site at www.midwestiso.org under the heading “Filings to FERC” for other interested parties in this matter. The Midwest ISO also states that it will provide hard copies to any interested parties upon request.

Comment Date: October 17, 2003.

2. Craven County Wood Energy Limited Partnership

[Docket No. ER03-1379-000]

Take notice that on September 25, 2003, Craven County Wood Energy Limited Partnership (Craven) tendered for filing a Supplement No. 5 to Rate Schedule FERC No.1. Craven states that the Supplement consists of a letter agreement, dated January 28, 1991, amending an agreement for the sale of power dated December 21, 1983, as subsequently amended by letters dated August 5, 1987, August 1, 1988, August 9, 1988, and June 14, 1989, all previously filed with the Commission. Craven states that a review of its files caused it to be aware of the need to file the January 28, 1991 letter agreement as a Supplement to its previously filed power sales agreement with Carolina Power & Light Company.

Comment Date: October 16, 2003.

3. Southern Company Services, Inc.

[Docket No. ER03-1381-000]

Take notice that on September 24, 2003, Southern Company Services, Inc. (SCS), on behalf of Georgia Power Company (Georgia Power), tendered for filing an unexecuted Interconnection Agreement by and between Georgia Power and Live Oaks Company, LLC (Live Oaks) (the Agreement), under Southern Operating Companies' Open Access Transmission Tariff (FERC Electric Tariff, Fourth Revised Volume No. 5) designated as Service Agreement No. 464. SCS states that the Agreement provides the general terms and conditions for the interconnection and parallel operation of Live Oaks's electric generating facility located near the City of Brunswick, Georgia in Glynn County. SCS also states that the Agreement terminates forty years from the effective date unless extended or terminated earlier by mutual written agreement.

Comment Date: October 15, 2003.

4. American Electric Power Service Corporation

[Docket No. ER03-1382-000]

Take notice that on September 24, 2003, American Electric Power Service Corporation (AEPSC) as agent for Public Service Company of Oklahoma (PSO), tendered for filing pursuant to Section 35.15 of the Federal Energy Regulatory Commission's regulations, Notices of Cancellation of Service Agreements between PSO and various entities under PSO's FERC Electric Tariff, First Revised Volume No. 5. AEPSC requests an effective date of September 1, 2003 for the cancellations.

AEPSC states that it has served copies of the filing upon the parties to the cancelled service agreements and the affected state regulatory commissions.

Comment Date: October 15, 2003.

5. DeSoto County Generating Company, L.L.C.

[Docket No. ER03-1383-000]

Take notice that on September 25, 2003, Progress Energy, Inc. (Progress Energy), on behalf of DeSoto County Generating Company, L.L.C. (DeSoto), tendered for filing a request for market-based rate (MBR) authority for DeSoto. Progress Energy requests that the Commission make DeSoto's MBR tariff effective on November 25, 2003, sixty days after the date of this filing. Progress Energy also requests waiver for DeSoto from the Commission's accounting, reporting and other requirements under Parts 41,101 and 141 of the Commission's regulations.

Progress Energy states that a copy of the filing was served on each entity operating a control area in Peninsular Florida and the Florida Public Service Commission.

Comment Date: October 16, 2003.

6. Tampa Electric Company

[Docket No. ER03-1384-000]

Take notice that on September 25, 2003, Tampa Electric Company (Tampa Electric) tendered for filing amendments to Appendices Card D to its Market-Based Sales Tariff. The amendments lower the credit rating thresholds in Appendix C and update the statement of rates for services under Tampa Electric's open access transmission tariff in Appendix D. Tampa Electric proposes that the amendments be made effective on September 25, 2003.

Tampa Electric states that copies of the filing have been served on the customers under Tampa Electric's Market-Based Sales Tariff and the Florida Public Service Commission.

Comment Date: October 16, 2003.

7. Exelon Corporation

[Docket No. ER03-1385-000]

Take notice that on September 25, 2003, Exelon Corporation submitted for filing revised and redated Network Service and Network Operating Agreements between Commonwealth Edison Company and the Cities of Batavia and St. Charles, Illinois.

Comment Date: October 16, 2003.

8. Cleco Power LLC

[Docket No. ER03-1386-000]

Take notice that on September 25, 2003, Cleco Power LLC (Cleco) filed changes to Sections 3, 13.7, 14.5, and 15.7 of its Open Access Transmission Tariff, FERC Electric Tariff, Original Volume No. 1, Original Sheet Nos. 14, 22, 24, and 26 to incorporate charges for unauthorized use of transmission and ancillary services. Cleco states that it is submitting First Revised Sheet Nos. 14, 22, 24, and 26 and Original Sheet Nos. 14A, 22A, 24A, and 26A to its FERC Electric Tariff, Original Volume No. 1 and proposes that they be made effective October 1, 2003.

Comment Date: October 16, 2003.

9. LG&E Capital Trimble County LLC

[Docket No. ER03-1387-000]

Take notice that on September 25, 2003, LG&E Capital Trimble County LLC tendered for filing a Notice of Cancellation pursuant to 18 CFR 35.15, in order to reflect the cancellation of its Market Rate Tariff, designated as Rate Schedule FERC No. 2, Original Sheet Nos. 1-4, originally accepted for filing in Docket No. ER02-1756-000.

Comment Date: October 16, 2003.

10. Electrion, Inc.

[Docket No. ER03-1388-000]

Take notice that on September 25, 2003, Electrion, Inc. submitted for filing a Notice of Cancellation of its Market-based Rate Authority in Docket No. ER98-3171-000 issued on June 29, 1998. Electrion, Inc. is requesting an effective date of October 1, 2003.

Comment Date: October 16, 2003.

11. Progress Energy, Inc., Carolina Power & Light Company, Progress Ventures, Inc., Effingham County Power, LLC, MPC Generating, LLC, Rowan County Power, LLC, Walton County Power, LLC, Washington County Power, LLC

[Docket No. ER03-1389-000]

Take notice that on September 25, 2003, Progress Energy, Inc., (Progress Energy) on behalf of certain of its subsidiaries including: Carolina Power & Light Company; Progress Ventures, Inc.; Effingham County Power, LLC; MPC Generating, LLC (formerly known as Monroe Power Company); Rowan County Power, LLC; Walton County Power, LLC; and Washington County Power, LLC (collectively, the Progress Energy Affiliates), tendered for filing a request for clarification of the Progress Energy Affiliates' Market-based Rate (MBR) authority within Peninsular Florida, with the exception of the Florida Power Corporation (FPC) service territory. Progress Energy also submitted revised MBR tariffs for each of the Progress Energy Affiliates which describe their authority to make MBR sales within Peninsular Florida, with the exception of FPC service territory.

Progress Energy states that copies of the filing were served on the official service lists in the above-captioned proceedings, each entity operating a control area in Peninsular Florida, and the Florida Public Service Commission.

Comment Date: October 16, 2003.

Standard Paragraph

Any person desiring to intervene or to protest this filing should file with the Federal Energy Regulatory Commission, 888 First Street, N.E., Washington, DC 20426, in accordance with rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00007 Filed 10-6-03; 8:45 am]

BILLING CODE 6717-01-P